DEPARTMENT OF COMMERCE

International Trade Administration

[A-122-838]

Certain Softwood Lumber Products from Canada: Notice of Final Results of Antidumping Duty Changed Circumstances Review

AGENCY: Import Administration, International Trade Administration, Department of Commerce.

ACTION: Notice of final results of antidumping duty changed circumstances review.

SUMMARY: The Department has determined that entries of certain softwood lumber products produced and exported by Monterra Lumber Mills Limited (Monterra) shall be subject to the “All Others” cash deposit rate of 8.43 percent as of the date of publication of this notice in the Federal Register.

EFFECTIVE DATE: September 19, 2003.

FOR FURTHER INFORMATION CONTACT: Keith Nickerson or Constance Handley, at (202) 482-3813 or (202) 482-0631, respectively; Import Administration, International Trade Administration, U.S. Department of Commerce, 14th Street and Constitution Avenue NW., Washington, DC 20230.

SUPPLEMENTARY INFORMATION

Background

As a result of the antidumping duty order issued following the completion of the less-than-fair-value investigation of certain softwood lumber products from Canada, imports of softwood lumber from Monterra, a subsidiary of respondent company Weyerhaeuser Company Limited (Weyerhaeuser), became subject to a cash deposit rate of 12.39 percent (See Notice of Amended Final Determination of Sales at Less Than Fair Value and Antidumping Order: Certain Softwood Lumber Products from Canada, 67 FR 36068 (May 22, 2002)). On February 4, 2003, Monterra notified the Department that effective December 23, 2002, Weyerhaeuser sold its interest in Monterra to 1554545 Ontario, Inc. (1554545 Ontario), a wholly owned subsidiary of Tercamm Corp., a privately owned Canadian investment company. As a result, Monterra requested that the Department conduct a changed circumstances review in order to conclude that, effective December 23, 2002, it should be subject to the “All Others” cash deposit rate of 8.43 percent, rather than Weyerhaeuser's 12.39 percent rate. On March 27, 2003, the Department published a notice of initiation of a changed circumstances review to determine whether entries naming Monterra as manufacturer and exporter should receive the “All Others” cash deposit rate of 8.43 percent.

On April 29, 2003, Monterra, at the request of the Department, submitted additional information and documentation regarding its sale by Weyerhaeuser to 1554545 Ontario. On May 8, 2003, the petitioner ¹ submitted comments on the information provided by Monterra and requested that the Department issue a supplemental questionnaire. On May 21, 2003, the Department issued a supplemental questionnaire requesting further details and documentation surrounding the sale and purchase, which were provided by Monterra in its subsequent submission of June 4, 2003. The petitioner did not comment on Monterra's June 4, 2003, submission.

¹ The petitioner in this proceeding is the Coalition for Fair Lumber Imports Executive Committee.

On July 25, 2003, the Department published the preliminary results of this changed circumstances review and preliminarily determined that entries naming Monterra as manufacturer and exporter should receive the “All Others” cash deposit rate of 8.43 percent. See Certain Softwood Lumber Products From Canada: Notice of Preliminary Results of Antidumping Duty Changed Circumstances Review, 68 FR 44048 (July 25, 2003) (Preliminary Results). In addition, we denied Monterra's request to have the cash deposit rate of 8.43 percent made effective as of December 23, 2002. In the Preliminary Results, we stated that interested parties could request a hearing or submit case briefs and/or written comments to the Department no later than 30 days after publication of the Preliminary Results notice in the Federal Register, and submit rebuttal briefs, limited to the issues raised in those case briefs, seven days subsequent to this due date. We did not receive any hearing requests or comments on the Preliminary Results.

Scope of the Order

The products covered by this order are softwood lumber, flooring and siding (softwood lumber products) as previously identified and described in the preliminary results of this changed circumstances review.

Final Results of Changed Circumstances Review

Based on the information provided by Monterra and the fact that the Department did not receive any comments during the comment period following the preliminary results of this review, the Department hereby determines that entries of certain softwood lumber products produced and exported by Monterra shall receive the “All Others” cash deposit rate of 8.43 percent. In addition, because cash deposits are only estimates of the amount of antidumping duties that will be due, changes in cash deposit rates are not made retroactively. Accordingly, we are denying Monterra's request to have the cash deposit rate of 8.43 percent made effective as of December 23, 2002. See Certain Hot-Rolled Lead and Bismuth Carbon Steel Products From the United Kingdom: Final Results of Changed-Circumstances Antidumping and Countervailing Duty Administrative Reviews, 64 FR 66,880 (November 30, 1999). The new deposit rate will become effective upon publication of this notice in the Federal Register.

Instructions to the U.S. Bureau of Customs and Border Protection (BCBP)

The Department will instruct the BCBP to apply the “All Others” cash deposit rate of 8.43 percent to all shipments of the subject merchandise produced and exported by Monterra entered, or withdrawn from warehouse, for consumption, on or after the publication date of this notice. This cash deposit rate shall remain in effect until publication of the final results of the on-going administrative review.

This notice also serves as a reminder to parties subject to administrative protective orders (APOs) of their responsibility concerning the disposition of proprietary information disclosed under APO in accordance with 19 CFR 351.306. Timely written notification of the return/destruction of APO materials or conversion to judicial protective order is hereby requested. Failure to comply with the regulations and terms of an APO is a sanctionable violation.

This notice is in accordance with sections 751(b)(1) and 777(i)(1) of the Act and 19 CFR 351.216 and 351.221(b)(5).

Dated: September 15, 2003.
James J. Jochum,
Assistant Secretary for Import Administration.

[FR Doc. 03-23963 Filed 9-18-03; 8:45 am]

BILLING CODE 3510-DS-P